DEPARTMENT OF COMMERCE

National Oceanic and Atmospheric Administration

50 CFR Part 679

[Docket No. 0910091344-9056-02]

RIN 0648-XP23

Fisheries of the Exclusive Economic Zone Off Alaska; Shallow-Water Species Fishery by Catcher Processors in the Gulf of Alaska

AGENCY: National Marine Fisheries Service (NMFS), National Oceanic and Atmospheric Administration (NOAA), Commerce.

ACTION: Temporary rule; closure.

SUMMARY: NMFS is prohibiting directed fishing for species that comprise the shallow-water species fishery for catcher processors subject to sideboard limits established under the Central Gulf of Alaska (GOA) Rockfish Program in the GOA. This action is necessary because the 2009 Pacific halibut prohibited species catch (PSC) sideboard limit specified for the shallow-water species fishery for catcher processors subject to sideboard limits established under the Central GOA Rockfish Program in the GOA is insufficient to support directed fishing for the shallow-water species fisheries.

DATES: Effective 1200 hrs, Alaska local time (A.l.t.), July 1, 2009, through 1200 hrs, A.l.t., July 31, 2009.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. processors in accordance with the FMP appear at subpart H of 50 CFR part 600 and 50 CFR part 679.

The 2009 Pacific halibut PSC sideboard limit specified for the shallow-water species fishery for catcher processors subject to sideboard limits established under the Central GOA Rockfish Program in the GOA is 0 metric tons as established by § 679.82(d), the final 2009 and 2010 harvest specifications for groundfish of the GOA (74 FR 7333, February 17, 2009), and as posted as the Catcher Processor Sideboards at http://www.fakr.noaa.gov/sustainablefisheries/goarat/default.htm.

In accordance with § 679.82(d)(9)(i)(B), the Administrator, Alaska Region, NMFS, has determined that the 2009 Pacific halibut PSC sideboard limit specified for the shallow-water species fishery for catcher processors subject to sideboard limits established under the Central GOA Rockfish Program in the GOA is insufficient to support directed fishing for the shallow-water species fisheries. Consequently, in accordance with § 679.82(d)(9)(ii)(A), NMFS is prohibiting directed fishing for species that comprise the shallow-water species fishery for catcher processors subject to sideboard limits established under the Central GOA Rockfish Program in the GOA. The species and species groups that comprise the shallow-water species fishery for the sideboard limit are shallow-water flatfish and flathead sole.

After the effective date of this closure the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. Notice and comment is unnecessary because there is no available halibut PSC sideboard limit and therefore the Regional Administrator has no discretion for any action other than to prohibit directed fishing.

The AA also finds good cause to waive the 30-day delay in the effective date of this action under 5 U.S.C. 553(d)(3). This finding is based upon the reasons provided above for waiver of prior notice and opportunity for public comment.

This action is required by § 679.20 and § 679.82 and is exempt from review under Executive Order 12866.

Authority: 16 U.S.C. 1801 et seq.

Dated: May 14, 2009.
Kristen C. Koch,
Acting Director, Office of Sustainable Fisheries, National Marine Fisheries Service.

[FR Doc. E9-11773 Filed 5-19-09; 8:45 am]

BILLING CODE 3510-22-S